DEPARTMENT OF HEALTH AND HUMAN SERVICES

Centers for Disease Control and Prevention

Subcommittee on Procedures Reviews, Advisory Board on Radiation and Worker Health (ABRWH), National Institute for Occupational Safety and Health (NIOSH)

Notice of Cancellation: This notice was published in the Federal Register on January 13, 2009, Volume 74, Number 8, pages 1689-1690. The meeting previously scheduled to convene on January 28, 2009, has been cancelled. The meeting was cancelled due to inclement weather and airport and facility inaccessibility. A notice will be published if the meeting is rescheduled.

Contact Person for More Information: Theodore Katz, Executive Secretary, NIOSH, CDC, 1600 Clifton Road, Mailstop E-20, Atlanta, GA 30333, Telephone (513) 533-6800, Toll Free 1(800) CDC-INFO, e-mail ocas@cdc.gov.

The Director, Management Analysis and Services Office, has been delegated the authority to sign Federal Register notices pertaining to announcements of meetings and other committee management activities, for both CDC and the Agency for Toxic Substances and Disease Registry.

Dated: January 30, 2009.
Elaine L. Baker,
Director, Management Analysis and Services Office, Centers for Disease Control and Prevention.

[FR Doc. E9-2447 Filed 2-4-09; 8:45 am]

BILLING CODE 4163-18-P